DEPARTMENT OF HOMELAND SECURITY

Coast Guard

33 CFR Part 117

[Docket No. USCG-2010-0536]

Drawbridge Operation Regulations; Charles River, Boston, MA, Public Event

AGENCY: Coast Guard, DHS.

ACTION: Notice of temporary deviation from regulations.

SUMMARY: The Commander, First Coast Guard District, has issued a temporary deviation from the regulations governing the operation of the Craigie Bridge across the Charles River, mile 1.0, at Boston, Massachusetts. The deviation is necessary to facilitate public safety during the Boston Pops Fireworks Spectacular, by allowing the bridge to remain in the closed position to evacuate pedestrian traffic after the conclusion of the public event.

DATES: This deviation is effective from 11 p.m. on July 4, 2010, through 1 a.m. on July 5, 2010.

ADDRESSES: Documents mentioned in this preamble as being available in the docket are part of docket USCG-2010-0536 and are available online at http://www.regulations.gov, inserting USCG-2010-0536 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. John W. McDonald, Project Officer, First Coast Guard District, john.w.mcdonald@uscg.mil, telephone (617) 223-8364. If you have questions on viewing the docket, call Renee V. Wright, Program Manager, Docket Operations, telephone 202-366-9826.

SUPPLEMENTARY INFORMATION: The Craigie Bridge, across the Charles River at mile 1.0, at Boston, Massachusetts, has a vertical clearance in the closed position of 13.5 feet at normal pool elevation above the Charles River Dam. The existing drawbridge operation regulations are listed at 33 CFR 117.591(e).

The waterway is predominantly a recreational waterway supporting various size vessels. This yearly holiday event and the annual short term bridge closure necessary to facilitate the evacuation of the large number of pedestrians viewing the fireworks display are well known to local boating interests and no objections have been received in past years.

The owner of the bridge, the Massachusetts Department of Transportation (Mass DOT), requested a temporary deviation to facilitate public safety during this public event, the 2010 Boston Pops Fireworks Spectacular.

Under this temporary deviation, in effect from 11 p.m. on July 4, 2010 through 1 a.m. on July 5, 2010, the Craigie Bridge at mile 1.0, across the Charles River at Boston, Massachusetts, may remain in the closed position.

Vessels that can pass under the bridge without a bridge opening may do so at all times.

In accordance with 33 CFR 117.35(e), the bridge must return to its regular operating schedule immediately at the end of the designated time period. This deviation from the operating regulations is authorized under 33 CFR 117.35.

Dated: June 22, 2010.
Gary Kassof,
Bridge Program Manager, First Coast Guard District.

[FR Doc. 2010-16117 Filed 7-1-10; 8:45 am]

BILLING CODE 9110-04-P